DEPARTMENT OF HEALTH AND HUMAN SERVICES

Substance Abuse and Mental Health Services Administration

Center for Substance Abuse Prevention; Notice of Meeting

Pursuant to Public Law 92-463, notice is hereby given of the meeting of the Center for Substance Abuse Prevention (CSAP) National Advisory Council in April 2002.

The agenda of the open meeting will include the Center for Substance Abuse Prevention's Director's Report, the SAMHSA Administrator's Report, Council discussion and administrative matters and announcements. Public comments are welcome.

A summary of this meeting and a roster of committee members may be obtained from Carol Watkins, Committee Management Specialist, Rockwall II Building, 5600 Fishers Lane, 9th Floor, Suite 900, Rockville, Maryland 20857, Telephone: (301) 443-9542.

Substantive program information may be obtained from the contact person listed below. If anyone needs special accommodations for persons with disabilities, please notify the contact listed below.

Committee Name: Center for Substance Abuse Prevention National Advisory Council.

Meeting Date: Tuesday, April 30, 2002.

Meeting Place: Crowne Plaza Hotel, 100 North First Street, Phoenix, Arizona.

Open: April 30, 2002; 2:15 to 5 p.m.

Contact: Carol Watkins, Committee Management Specialist, 5600 Fishers Lane, Rockwall II Building, Suite 900, Rockville, Maryland 20857. Telephone: (301) 443-9542.

Dated: April 15, 2002.
Toian Vaughn,
Executive Secretary/Committee Management Officer, Substance Abuse and Mental Health Services Administration.

[FR Doc. 02-9688 Filed 4-19-02; 8:45 am]

BILLING CODE 4162-20-P